DEPARTMENT OF COMMERCE

International Trade Administration

[A-588-837]

Large Newspaper Printing Presses and Components Thereof, Whether Assembled or Unassembled, from Japan: Resumption of Reconsideration of Sunset Review

AGENCY: Import Administration, International Trade Administration, Department of Commerce.

EFFECTIVE DATE: September 22, 2008.

FOR FURTHER INFORMATION CONTACT: David Goldberger or Kate Johnson, AD/CVD Operations, Office 2, Import Administration, International Trade Administration, U.S. Department of Commerce, 14th Street & Constitution Avenue, NW, Washington, DC, 20230; telephone: 202-482-4136, or 202-482-4929, respectively.

Resumption of Reconsideration of Sunset Review

On April 13, 2006, the Department of Commerce (the Department) published the notice of initiation of the reconsideration of the sunset review of the antidumping duty order on large newspaper printing presses and components thereof, whether assembled or unassembled (LNPP), from Japan. See Large Newspaper Printing Presses and Components Thereof, Whether Assembled or Unassembled, From Japan: Reconsideration of Sunset Review, 71 FR 19164 (April 13, 2006). This review was initiated to reconsider the sunset review of the antidumping duty order on LNPP from Japan, which resulted in the revocation of that antidumping duty order. See Large Newspaper Printing Presses and Components Thereof, Whether Assembled or Unassembled, from Japan (A-588-837) and Germany (A-428-821): Notice of Final Results of Five-year Sunset Reviews and Revocation of Antidumping Duty Orders, 67 FR 8522 (February 25, 2002). The Department published its preliminary results in the reconsideration of sunset review on November 6, 2006. See Large Newspaper Printing Presses and Components Thereof, Whether Assembled or Unassembled, from Japan: Preliminary Results of Reconsideration of Sunset Review, 71 FR 64927 (November 6, 2006).

On January 24, 2007, the Court of International Trade (CIT) issued its decision in Tokyo Kikai Seisakusho, Ltd. v. United States, 473 F. Supp. 2d 1349, 1364 (Ct. Int'l Trade 2007), and ordered the Department to “discontinue any action in regard to a reconsideration” of the sunset review. In accordance with that decision, the Department discontinued action with respect to its reconsideration of the sunset review. See Large Newspaper Printing Presses and Components Thereof, Whether Assembled or Unassembled, from Japan: Discontinuation of Reconsideration of Sunset Review, 72 FR 9730 (March 5, 2007).

On June 17, 2008, the Court of Appeals for the Federal Circuit (CAFC) reversed the CIT's decision directing the Department to discontinue its sunset review reconsideration. The CAFC held that the issue was not ripe for judicial review and that the CIT erred in finding that the Department's stated intention to reopen the sunset review proceeding (in the context of the changed circumstances review final results) was final agency action. See Tokyo Kikai Seisakusho, Ltd. v. United States, 529 F.3d 1352 (Fed. Cir. 2008). Accordingly, the Department is resuming its reconsideration of the sunset review.

Prior to the CIT's discontinuation order issued on January 24, 2007, the final results of this review were due by March 9, 2007, or 45 days from that date. The Department was advised by the Department of Justice on September 22, 2008, that it may resume this review. Accordingly, the Department intends to issue its final results for this review no later than 45 days following its resumption of the review, i.e., by November 6, 2008.

Dated: September 25, 2008.
Stephen J. Claeys,
Acting Assistant Secretary for Import Administration.

[FR Doc. E8-23163 Filed 9-30-08; 8:45 am]

BILLING CODE 3510-DS-S